ENVIRONMENTAL PROTECTION AGENCY

40 CFR Part 52

[EPA-R05-OAR-2021-0294; FRL-9831-01-R5]

Air Plan Approval; Illinois; VOC RACT Requirements for Aerospace Manufacturing and Rework Operations

AGENCY: Environmental Protection Agency (EPA).

ACTION: Proposed rule.

SUMMARY: The Environmental Protection Agency (EPA) is proposing to approve State Implementation Plan (SIP) rule revisions submitted by the Illinois Environmental Protection Agency (IEPA or Illinois) on April 13, 2021, and supplemented by a Clean Air Act (CAA) section 110(l) demonstration submitted on October 6, 2022. Illinois requests that EPA approve rule revisions related to control of volatile organic compound (VOC) emissions from aerospace manufacturing and rework facilities into Illinois' SIP. These rule revisions are approvable because they are consistent with the Control Techniques Guidelines (CTG) for Aerospace Manufacturing and Rework Operations published by EPA in 1997, and satisfy the moderate VOC reasonably available control technology (RACT) requirements of CAA section 182(b)(2) for aerospace facilities in the Illinois portion of the St. Louis nonattainment area (Metro-East area) under the 2015 ozone National Ambient Air Quality Standard (NAAQS or standard). The Metro-East area consists of Madison, Monroe, and St. Clair counties in Illinois.

DATES: Comments must be received on or before February 9, 2023.

ADDRESSES: Submit your comments, identified by Docket ID No. EPA-R05-OAR-2021-0294 at https://www.regulations.gov, or via email to arra.sarah@epa.gov. For comments submitted at Regulations.gov, follow the online instructions for submitting comments. Once submitted, comments cannot be edited or removed from Regulations.gov. For either manner of submission, EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit https://www2.epa.gov/dockets/commenting-epa-dockets.

FOR FURTHER INFORMATION CONTACT: Kathleen Mullen, Environmental Engineer, Attainment Planning and Maintenance Section, Air Programs Branch (AR-18J), Environmental Protection Agency, Region 5, 77 West Jackson Boulevard, Chicago, Illinois 60604, (312) 353-3490, Mullen.Kathleen@epa.gov. The EPA Region 5 office is open from 8:30 a.m. to 4:30 p.m., Monday through Friday, excluding Federal holidays and facility closures due to COVID-19.

SUPPLEMENTARY INFORMATION: Throughout this document whenever “we,” “us,” or “our” is used, we mean EPA.

I. What is EPA proposing?

EPA is proposing to approve rule revisions to title 35 of the Illinois Administrative Code (Ill. Adm. Code) part 211 (Definitions and General Provisions) and part 219 (Organic Material Emission Standards and Limitations for the Metro-East Area). These rule revisions implement the control of VOC emissions from aerospace manufacturing and rework operations and satisfy the moderate VOC RACT requirements of CAA section 182(b)(2) for aerospace facilities in the Metro-East Area under the 2015 ozone standard.

II. What is the background for these actions?

VOCs contribute to the production of ground-level ozone, or smog, which harms human health and the environment. CAA sections 172(c)(1) and 182(b)(2) require states to implement RACT in ozone nonattainment areas classified as moderate (and higher). Specifically, these areas are required to implement RACT for all major VOC sources and for all sources covered by a CTG. A CTG is a document issued by EPA which establishes a “presumptive norm” for RACT for a specific VOC source category. States must submit rules to implement RACT or negative declarations when no such sources exist for CTG source categories.

In December 1997, EPA published a CTG titled “Control of Volatile Organic Compound Emissions from Coating Operations at Aerospace Manufacturing and Rework Operations.” ¹ Illinois did not adopt VOC RACT rules for aerospace facilities at the time because there were no sources that would have been subject to the aerospace CTG requirements.

¹ EPA-453/R-97-004, available at https://www3.epa.gov/airquality/ctg_act/199712_voc_epa453_r-97-004_aerospace_rework.pdf.

EPA also promulgated a National Emission Standard for Hazardous Air Pollutants (NESHAP) applicable to aerospace manufacturing and rework facilities on September 1, 1995 (60 FR 45948). The NESHAP is codified at 40 CFR part 63, subpart GG. EPA subsequently amended the NESHAP on December 7, 2015 (80 FR 76152) to incorporate rule revisions to the emission standards for specialty coatings, allow for annual purchase records of certain coatings, exempt two additional application methods, and update definitions.

According to the IEPA submittal, an aerospace facility located in the Metro-East area had indicated that it intended to expand its operations by early 2021. Because Illinois has previously not adopted VOC RACT rules specifically for aerospace facilities, the source would potentially be subject to more general Ill. Adm. Code Section 219.204 regulations for miscellaneous metal parts and products coatings.

On June 4, 2018, EPA designated and classified Madison and St. Clair Counties in Illinois as a marginal nonattainment area for the 2015 ozone NAAQS (83 FR 25776) as part of the Metro-East 2015 ozone nonattainment area. In response to the Clean Wisconsin v. EPA court decision,² EPA revised its designation of Monroe County in Illinois to be included in the Metro-East nonattainment area on June 14, 2021 (86 FR 31438). On October 7, 2022, EPA finalized its determination of failure to timely attain and reclassification of Madison, Monroe, and St. Clair Counties in Illinois, as part of the Metro-East area, to moderate nonattainment under the 2015 ozone standard (87 FR 21842).

² Clean Wisconsin v. EPA, 964 F.3d 1145 (D.C. Cir. 2020).

Pursuant to CAA section 182(b)(2), the Metro-East area is subject to VOC RACT requirements since it is classified as moderate nonattainment under the 2015 ozone NAAQS. Section 182(b)(2) requires states with moderate nonattainment areas to implement VOC RACT with respect to each of the following: (1) all sources covered by a Control Technology Guideline (CTG) document issued between November 15, 1990, and the date of attainment; (2) all sources covered by a CTG issued prior to November 15, 1990; and (3) all other major non-CTG stationary sources.

These proposed regulations will ensure that the CTG recommended VOC RACT level of control is in place for aerospace facilities located in the Metro-East area and satisfy the VOC RACT requirements of the CAA for aerospace facilities in the Metro-East area.

III. What is EPA's analysis of Illinois' SIP rule revisions?

The proposed amendments to 35 Ill. Adm. Code 211 and 35 Ill. Adm. Code 219 establish definitions, VOC content limitations, work practice standards, recordkeeping, and reporting requirements for applicable aerospace facilities located in the Metro-East Area.

IEPA has determined that three sources in the Metro-East Area would potentially be affected by the proposed aerospace regulations. Two of these sources are currently subject to general rules for miscellaneous metal parts and products coatings, plastic parts and products coatings and pleasure craft coatings found in 35 Ill. Adm. Code part 219. However, aircraft exterior coatings account for the great majority of volume of aerospace coatings used and VOC emissions from these potentially affected sources, and those coatings are currently exempt from the miscellaneous metal parts and products limits. Upon adoption of these proposed aerospace regulations, these exterior coatings will be subject to the primer and topcoat limits in the proposed 35 Ill. Adm. Code 219.204(r)(1). The third source plans to expand its aerospace facility, such that it will be subject to the proposed aerospace regulations.

On October 6, 2022, Illinois submitted a letter clarifying its 110(l) demonstration to EPA. Under CAA section 110(l), EPA cannot approve a plan revision “if the revision would interfere with any applicable requirement concerning attainment and reasonable further progress (as defined in section 7501 of [title 42]), or any other applicable requirement of this chapter.” In the absence of an aerospace coating rule, some coating operations at aerospace facilities in the Metro-East area were subject to requirements of other coating rules in 35 Ill. Adm. Code 219. The VOC content limits of these rules differ for particular coating types from the limits in the proposed regulations. However, aircraft exterior coatings account for the great majority of aerospace coatings used at the potentially affected sources in Illinois, both in volume of coating used and VOC emissions, and those coatings are currently exempt from regulation in Illinois' approved SIP. Incorporating the Illinois aerospace coating rule revisions into the Illinois SIP will result in an overall reduction in VOC emissions from the three affected sources in Illinois. Also, the proposed rule revisions will not result in an increase in emissions of any other pollutant at these existing sources in Illinois. Finally, the proposed rule revisions will not interfere with any applicable requirement concerning attainment and reasonable further progress or any other applicable requirement of the CAA. We propose to find that IEPA's rule revisions to the Illinois SIP to regulate aerospace coatings satisfies the requirements of CAA section 110(l).

The proposed amendments are approvable because they are consistent with the Aerospace CTG and satisfy the VOC RACT requirements of the CAA. A brief discussion of these rule revisions follows.

35 Ill. Adm. Code 211

Rule revisions to this section primarily consist of new definitions that are needed to support the proposed regulations. These new definitions include the following sections: 211.125, 211.234, 211.245, 211.271, 211.272, 211.273, 211.275, 211.277, 211.278, 211.280, 211.284, 211.289, 211.300, 211.303, 211.491, 211.500, 211.520, 211.712, 211.737, 211.975, 211.985, 211.1095,211.1326, 211.1327, 211.1329, 211.1432, 211.1555, 211.1567, 211.1620, 211.1625, 211.1735, 211.1820, 211.1895, 211.1915, 211.2035, 211.2180, 211.2340, 211.2400, 211.2412, 211.2480, 211.2485, 211.2612, 211.2613, 211.2795, 211.2980, 211.3160, 211.3180, 211.3230, 211.3360, 211.3755, 211.3850, 211.3870, 211.3920, 211.4066, 211.4215, 211.4535, 211.5072, 211.5336, 211.5338, 211.5339, 211.5585, 211.5675, 211.5680, 211.5805, 211.5855, 211.5883, 211.5887, 211.5895, 211.5900, 211.5905, 211.5907, 211.6013, 211.6055, 211.6064, 211.6133, 211.6137, 211.6426, 211.6428, 211.6575, 211.6583, 211.6670, 211.6685, 211.6720, 211.7260, 211.7275. These definitions are consistent with the Aerospace CTG and Aerospace NESHAP.

35 Ill. Adm. Code 219

These regulations apply to aerospace coatings and cleaning activities at aerospace facilities located in the Metro-East nonattainment area for the 2015 ozone standard that have the potential to emit 25 tons of VOC or more per year. The regulations below are consistent with, and in some instances more stringent than, the aerospace CTG and aerospace NESHAP.

Section 219.105 Test Methods and Procedures

• Paragraph J contains requirements for cleaning solvents used at aerospace facilities.

Section 219.106 Compliance Dates

• Paragraph F establishes compliance date requirements for aerospace facilities.

Section 219.110 Vapor Pressure of Organic Material or Solvent

• Paragraph D contains an equation for calculating the composite vapor pressure of a cleaning solvent used at aerospace facilities.

Section 219.204 Emission Limitations

• Paragraph R contains VOC content limitations for primers, topcoats, chemical milling maskants, and specialty coatings at aerospace facilities.

Section 219.205 Daily Weighted Average Limitations

• Paragraph K specifies daily weighted average VOC content requirements for coatings at aerospace facilities.

Section 219.207 Alternative Emission Limitations

• Paragraph N establishes the capture system and control device requirements including at least a 90 percent reduction in VOC emissions from aerospace coating operations. This 90 percent reduction in VOC emissions is more stringent than the 81 percent reduction required in the Aerospace CTG.

Section 219.208 Exemptions From Emission Limitations

• Paragraph F contains applicability criteria and exemptions for aerospace coatings and cleaning operations.

Section 219.211 Recordkeeping and Reporting

• Paragraph J contains recordkeeping and reporting requirements for aerospace coatings and cleaning solvents.

• Paragraph K contains the recordkeeping and reporting requirements for exempt aerospace facilities.

Section 219.219 Work Practice Standards for Aerospace Facilities

• Paragraph D specifies activities involving cleaning of aerospace components and vehicles which are not subject to the aerospace work practice standards.

• Paragraph E lists work practice standards for aerospace facilities including proper application methods, storage, mixing, and conveying of aerospace coatings and cleaning solvents.

• Paragraph F contains certain situations which are not subject to the coating application method limitations.

• Paragraph G contains requirements for various types of cleaning activities and cleaning operation exemptions at aerospace facilities.

IV. What action is EPA taking?

EPA is proposing to approve into the Illinois SIP rule revisions to rules relating to the control of VOC emissions from aerospace manufacturing and rework operations (35 Ill. Admin. Code part 211 and 35 Ill. Admin. Code part 219) submitted on April 13, 2021, which Illinois supplemented with a 110(l) demonstration on October 6, 2022. These rule revisions satisfy the moderate VOC RACT requirements of section 182(b)(2) of the CAA for aerospace facilities located in the Metro-East Area under the 2015 ozone standard. EPA is soliciting public comment on the issues discussed in this document. These comments will be considered before taking final action.

V. Incorporation by Reference

In this rule, EPA is proposing to include in a final EPA rule regulatory text that includes incorporation by reference. In accordance with requirements of 1 CFR 51.5, EPA is proposing to incorporate by reference Illinois rules 35 Ill. Admin. Code part 211 and 35 Ill. Admin. Code part 219, effective March 4, 2021, discussed in section III. of this preamble. EPA has made, and will continue to make, these documents generally available through www.regulations.gov and at the EPA Region 5 Office (please contact the person identified in the FOR FURTHER INFORMATION CONTACT section of this preamble for more information).

VI. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the proposed rule does not have tribal implications and will not impose substantial direct costs on tribal governments or preempt tribal law as specified by Executive Order 13175 (65 FR 67249, November 9, 2000).

List of Subjects in 40 CFR Part 52

Environmental protection, Air pollution control, Incorporation by reference, Intergovernmental relations, Ozone, Volatile organic compounds.

Dated: January 4, 2023.
Debra Shore,
Regional Administrator, Region 5.

[FR Doc. 2023-00245 Filed 1-9-23; 8:45 am]

BILLING CODE 6560-50-P